CORPORATION FOR NATIONAL AND COMMUNITY SERVICE

Agency Information Collection Activities; Submission to the Office of Management and Budget for Review and Approval; Comment Request; President's Volunteer Service Awards

AGENCY: Corporation for National and Community Service.

ACTION: Notice of information collection; request for comment.

SUMMARY: The Corporation for National and Community Service, operating as AmeriCorps, has submitted a public information collection request (ICR) entitled President's Volunteer Service Awards for review and approval in accordance with the Paperwork Reduction Act.

DATES: Written comments must be submitted to the individual and office listed in the ADDRESSES section by September 11, 2023.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling AmeriCorps, Rhonda Taylor, at 202-606-6721 or by email to rtaylor@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on June 2, 2023 at 88 FR 36284. This comment period ended August 1, 2023. One public comment, from the Iowa Commission on Volunteer Service, was received from this Notice. The comment was positive, mentioning the form is simple to use, and they were in favor of continuing the award option.

Title of Collection: President's Volunteer Service Award.

OMB Control Number: 3045-0086. Type of Review: Reinstatement.

Respondents/Affected Public: Individuals.

Total Estimated Number of Annual Responses: 200,000.

Total Estimated Number of Annual Burden Hours: 66,666.

Abstract: AmeriCorps is soliciting comments concerning its proposed renewal of the President's Volunteer Service Awards (PVSA), parts A, B, C, D and E. AmeriCorps seeks to renew the current information collection with without revisions. The information collection will be used in the same manner as the existing application. AmeriCorps also seeks to continue using the current application until the revised application is approved by OMB. The current application was discontinued on July 31, 2023.

Rhonda Taylor,
Director, Partnerships & Program Engagement.

[FR Doc. 2023-17177 Filed 8-9-23; 8:45 am]

BILLING CODE 6050-28-P